DEPARTMENT OF ENERGY

Federal Energy Regulatory Commission

[Docket Nos. CP04-374-000, CP04-375-000, and CP04-376-000]

Pearl Crossing Pipeline LP; Notice of Filing

August 3, 2004.

Take notice that on July 8, 2004, Pearl Crossing Pipeline LLC (Pearl Crossing Pipeline) filed an application, in Docket No. CP04-374-000, seeking a certificate of public convenience and necessity, pursuant to section 7(c) of the NGA and part 157, subpart A of the Commission's Regulations, to construct and operate facilities comprising: (i) Two parallel 42-inch pipelines (0.47 miles each) between an offshore interconnect and a proposed meter station near Johnsons Bayou in Cameron Parish, Louisiana; and (ii) one 42-inch pipeline (63.75 miles) between the Johnsons Bayou meter station and a proposed interconnect with Transcontinental Gas Pipe Line Company (Transco) near Starks, in Calcasieu Parish, Louisiana. Pearl Crossing Pipeline supplemented this application on July 27, 2004.

Pearl Crossing Pipeline requests, in Docket No. CP04-375-000, a blanket certificate under section 7(c) of the NGA and part 157, subpart F of the Commission's Regulations to perform routine activities in connection with the future construction, operation and maintenance of the proposed pipelines. Pearl Crossing Pipeline also requests authorization, in Docket No. CP04-376-000, to provide the natural gas transportation services on a firm and interruptible basis pursuant to section 7(c) of the NGA and part 284 of the Commission's Regulations. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

On May 25, 2004, Pearl Crossing LNG Terminal LLC (Pearl Crossing LNG Terminal) filed an application with the United States Coast Guard (USCG) for a license pursuant to the Deepwater Port Act of 1974 (DWPA), as amended by the Maritime Security Transportation Act of 2002, and the USCG Temporary Interim Rule, 33 CFR parts 148, 149, and 150, to construct, own and operate a natural gas deepwater port to be used for the receipt and storage of LNG with LNG regasification and delivery of natural gas via Pearl Crossing Pipeline's proposed pipelines.

Any questions regarding the application are to be directed to James K. Hanrahan, 800 Bell Street, Houston, Texas 77002; phone number (713) 656-8602.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Motions to intervene, protests and comments may be filed electronically via the Internet in lieu of paper; see 18 CFR 385.2001(a)(1)(iii) and the instructions on the Commission's Web site under the “e-Filing” link. The Commission strongly encourages electronic filings.

Comment Date: August 24, 2004.

Magalie R. Salas,
Secretary.

[FR Doc. E4-1762 Filed 8-9-04; 8:45 am]

BILLING CODE 6717-01-P